DEPARTMENT OF TRANSPORTATION

Federal Aviation Administration

14 CFR Part 71

[Docket No. FAA-2009-0824; Airspace Docket No. 09-AAL-11]

RIN 2120-AA66

Revision of Colored Federal Airways; Alaska

AGENCY: Federal Aviation Administration (FAA), DOT.

ACTION: Final rule.

SUMMARY: This action revises two Colored Federal Airways, Green 16 (G-16), and Blue 26 (B-26), in Alaska. The FAA is taking this action in preparation of the eventual decommissioning of the Barter Island (BTI) Non-directional Beacon (NDB) at the Village of Kaktovik, Alaska.

DATES: Effective 0901 UTC, February 11, 2009. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

On October 5, 2009, the FAA published in the Federal Register a notice of proposed rulemaking (NPRM) to establish two Colored Federal Airways in Alaska (74 FR 51098). Interested parties were invited to participate in this rulemaking effort by submitting written comments on this proposal. No comments were received in response to the NPRM. The NPRM inadvertently stated that T-73 was established to continue IFR service to the Village of Kaktovik, Alaska, it should have read T-273. With the exception of this editorial change, this amendment is the same as that published in the notice of proposed rulemaking.

The Rule

This action amends Title 14, Code of Federal Regulations (14 CFR) part 71, by revising two Colored Federal Airways, G-16 and B-26 by removing the segment to the BTI NDB from each airway description. In a separate action, one Area Navigation (RNAV) route T-228 was revised, and T-273 was established to continue IFR service to the Village of Kaktovik, Alaska. The BTI NDB decommissioning proposal was publicly circulated in notice number 06-AAL-49NR. After reviewing public comment, the FAA decided that keeping the NDB was not feasible and that it should be decommissioned.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the airspace necessary to ensure the safety of aircraft and the efficient use of airspace. This regulation is within the scope of that authority as it revises Colored Federal Airways in Alaska.

Environmental Review

The FAA has determined that this action qualifies for categorical exclusion under the National Environmental Policy Act in accordance with FAA Order 1050.1E, Environmental Impacts: Polices and Procedures, paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9T, Airspace Designations and Reporting Points, signed August 27, 2009, and effective September 15, 2009, is to be amended as follows:

Paragraph 6009(a) Green Federal Airways.

* * * * *

G-16 [Revised]

From Point Lay, AK, NDB; Wainwright Village, AK, NDB; Browerville, AK, NDB; Nuiqsut Village, AK, NDB; to Put River, AK, NDB.

* * * * *

Paragraph 6009(d) Blue Federal Airways.

* * * * *

B-26 [Revised]

From Chena, AK, NDB, to Yukon River, AK, NDB.

* * * * *

Issued in Washington, DC, December 3, 2009.
Kenneth L. McElroy,
Acting Manager, Airspace and Rules Group.

[FR Doc. E9-29396 Filed 12-10-09; 8:45 am]

BILLING CODE 4910-13-P